DEPARTMENT OF STATE

[Public Notice No. 3545]

Advisory Committee Meeting on Law Applicable to Securities Intermediaries; Meeting Notice

The Study Group on Securities Transactions of the State Department's Advisory Committee on Private International Law will hold a meeting on Monday, March 5, 2001, at the Federal Reserve Bank of New York on proposed treaty rules on law applicable to securities intermediaries, and in particular the law applicable to dispositions of securities held through an indirect holding system.

The meeting will provide an opportunity for public comment and will facilitate preparation of United States positions in connection with draft rules in preparation at the Hague Conference on Private International Law on law applicable to intermediaries.

Agenda: The meeting will review initial draft rules considered by states, organizations and industry representatives invited by the Hague Conference at its first meeting on this subject, that took place January 2001 together with proposed amendments thereto and additional provisions that may be suggested by study group participants.

Subject to availability of time, the meeting will review developments involving direct and indirect holders of securities, transfers of interest, dematerialization and immobilization of securities, the systemic role of multiple indirect holding systems, and whether harmonization by international treaty is feasible. Among other issues, an applicable law regime might address what law governs transfers of securities held through custodial accounts and financial intermediaries; the rights to securities in custodial accounts; the rights of owners of securities as well as entities secured thereby; the relation to third party creditors; and the legal nature of interests in securities held by such intermediaries or through central clearing systems.

Time permitting, the desirability of additional efforts to prepare substantive rules on securities intermediaries by other international bodies, such as the United Nations Commission on International Trade Law (UNCITRAL), UNIDROIT and the OAS will be discussed.

Documentation: The basic study by the Permanent Bureau of the Hague Conference, “Law applicable to disposition of securities held through indirect holding systems”, is obtainable at www.hcch.net. Draft articles and proposed revisions thereto are set out in Doc. WP-16 dated February 6 and annexes A-C on the same site. Commentators unable to retrieve these documents may request them from the Office of the Legal Adviser (L/PIL) by contacting Rosie Gonzales at 202-776-8420, by fax 202-776-8482, or by email at pildb@his.com.

Attendance: The public is invited to attend up to the capacity of the meeting room and may participate subject to the rulings of the chair. The meeting will take place at 10:00 a.m. to 4:00 p.m. at the New York Federal Reserve Bank, 33 Liberty Street, NYC in the 10th Floor Board Room. Since access to the building is controlled, persons wishing to attend should, prior to c.o.b. Wednesday, March 2, notify Joyce Hansen, Sr. Vice President, New York Federal Reserve, at 212-720-5024, fax 212-720-1756 or contact Harold Burman, Office of the Legal Adviser, 202-776-8421; fax: 202-776-8482.

Harold S. Burman,
Executive Director, Secretary of State's Advisory Committee on Private International Law, U.S. Department of State.

[FR Doc. 01-4666 Filed 2-23-01; 8:45 am]

BILLING CODE 4710-08-P